DEPARTMENT OF COMMERCE

National Oceanic and Atmospheric Administration

50 CFR Part 660

[Docket No. 161222999-7413-01]

RIN 0648-XF715

Fisheries Off West Coast States; Modifications of the West Coast Commercial and Recreational Salmon Fisheries; Inseason Actions #12 Through #18

AGENCY: National Marine Fisheries Service (NMFS), National Oceanic and Atmospheric Administration (NOAA), Commerce.

ACTION: Modification of fishing seasons.

SUMMARY: NMFS announces seven inseason actions in the ocean salmon fisheries. These inseason actions modified the commercial and recreational salmon fisheries in the area from the U.S./Canada border to Humbug Mountain, OR.

DATES: The effective dates for the inseason actions are set out in this document under the heading Inseason Actions.

FOR FURTHER INFORMATION CONTACT: Peggy Mundy at 206-526-4323.

SUPPLEMENTARY INFORMATION:

Background

In the 2017 annual management measures for ocean salmon fisheries (82 FR 19630, April 28, 2017), NMFS announced the commercial and recreational fisheries in the area from the U.S./Canada border to the U.S./Mexico border, beginning May 1, 2017, and 2018 salmon fisheries opening earlier than May 1, 2018. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: California Department of Fish and Wildlife (CDFW), Oregon Department of Fish and Wildlife (ODFW), and Washington Department of Fish and Wildlife (WDFW).

Management of the salmon fisheries is generally divided into two geographic areas: North of Cape Falcon (U.S./Canada border to Cape Falcon, OR) and south of Cape Falcon (Cape Falcon, OR, to the U.S./Mexico border). The inseason actions reported in this document affected fisheries north and south of Cape Falcon. All times mentioned refer to Pacific daylight time.

Inseason Actions

Inseason Action #12

Description of action: Inseason action #12 transferred 2,600 coho from the north of Falcon commercial fishery to the recreational fishery in the Westport subarea. The adjusted coho quota for the north of Falcon commercial fishery is 3,000. The adjusted coho quota for the Westport subarea is 18,140.

Effective dates: Inseason action #12 took effect on August 10, 2017, and remained in effect through the end of the 2017 salmon fishing season.

Reason and authorization for the action: The purpose of this action was to provide additional coho quota to the north of Cape Falcon recreational fishery in the Westport subarea in order to extend the season and avoid closing this subarea while adjacent subareas remained open. The commercial fishing representatives on the Council's Salmon Advisory Subpanel (SAS) supported the quota transfer. The Regional Administrator (RA) considered fishery effort and coho landings to date in the recreational and commercial fisheries, and determined that this inseason action was necessary to meet the management objectives set preseason. Inseason actions to modify quotas or fishing seasons are authorized by 50 CFR 660.409(b)(1)(i).

Consultation date and participants: Consultation on inseason action #12 occurred on August 10, 2017. Representatives from NMFS, WDFW, ODFW, and the Council participated in this consultation.

Inseason Action #13

Description of action: Inseason action #13 transferred 500 coho from the north of Cape Falcon commercial salmon fishery and 1,027 coho from the north of Cape Falcon recreational salmon fishery in the Westport subarea to the north of Cape Falcon recreational salmon fishery in the Columbia River subarea. The revised recreational coho quota for the Westport subarea is 17,113, and the Columbia River subarea is 22,527. The revised coho quota for the north of Cape Falcon commercial fishery is 2,500.

Effective dates: Inseason action #13 took effect on August 17, 2017, and remained in effect through the end of the 2017 salmon fishing season.

Reason and authorization for the action: The purpose of this action was to provide additional coho quota to the north of Cape Falcon recreational fishery in the Columbia River subarea in order to extend the season and allow the adjacent Columbia River and Westport subareas to remain open for recreational salmon fishing until these subareas could be closed simultaneously through inseason action #16, below. The commercial fishing representatives on the Council's SAS supported the quota transfer. The RA considered fishery effort and coho landings to date in the recreational and commercial fisheries, and determined that this inseason action was necessary to meet the management objectives set preseason. Inseason actions to modify quotas or fishing seasons are authorized by 50 CFR 660.409(b)(1)(i).

Consultation date and participants: Consultation on inseason action #13 occurred on August 17, 2017. Representatives from NMFS, WDFW, ODFW, and the Council participated in this consultation.

Inseason Action #14

Description of action: Inseason action #14 transferred 400 coho from the north of Cape Falcon recreational salmon fishery in the Neah Bay subarea to the north of Cape Falcon recreational salmon fishery in the La Push subarea. The revised coho quota for Neah Bay is 3,970, and for La Push 1,490.

Effective dates: Inseason action #14 took effect on August 17, 2017, and remained in effect through the end of the 2017 salmon fishing season.

Reason and authorization for the action: The purpose of this action was to provide additional coho quota to the north of Cape Falcon recreational fishery in the La Push subarea in order to extend the season in that subarea and allow the adjacent La Push and Neah Bay subareas to remain open for recreational salmon fishing until these subareas could be closed simultaneously on September 4, 2017, as scheduled preseason. The RA considered fishery effort and coho landings to date in the recreational fisheries, and determined that this inseason action was necessary to meet the management objectives set preseason. Inseason actions to modify quotas or fishing seasons are authorized by 50 CFR 660.409(b)(1)(i).

Consultation date and participants: Consultation on inseason action #14 occurred on August 17, 2017. Representatives from NMFS, WDFW, ODFW, and the Council participated in this consultation.

Inseason Action #15

Description of action: Inseason action #15 modified the open period in the commercial salmon fishery from the U.S./Canada border to the Queets River, WA, from five days per week (Friday through Tuesday) to seven days per week. Inseason action #15 also modified the landing and possession limit from 75 Chinook and 10 coho per vessel per open period to 100 Chinook and 10 coho per vessel per open period; this landing limit modification superseded inseason action #7 (82 FR 43192, September 14, 2017).

Effective dates: Inseason action #15 took effect on August 21, 2017, and remained in effect through the end of the 2017 salmon fishing season.

Reason and authorization for the action: The purpose of this action was to increase access to the available quota, as Chinook landings in the affected area were well below the level anticipated preseason. The RA considered Chinook landings to date and fishery effort, and determined that this inseason action was necessary to meet the management objectives set preseason. Inseason actions to modify quotas and/or fishing seasons are authorized by 50 CFR 660.409(b)(1)(i) and inseason actions to modify regulations limiting retention are authorized by 50 CFR 660.409(b)(1)(ii).

Consultation date and participants: Consultation on inseason action #15 occurred on August 17, 2017. Representatives from NMFS, WDFW, ODFW, and the Council participated in this consultation.

Inseason Action #16

Description of action: Inseason action #16 closed the north of Cape Falcon recreational salmon fisheries in the Columbia River and Westport subareas at 11:59 p.m., Tuesday, August 22, 2017.

Effective dates: Inseason action #16 took effect August 22, 2017, and remains in effect through the end of the 2017 salmon fishing season.

Reason and authorization for the action: The purpose of this action was to avoid exceeding the coho quota for recreational fisheries from Leadbetter Point, WA, to Cape Falcon, OR. The RA considered coho landings to date and fishery effort, and determined that this inseason action was necessary to meet the management objectives for fishery impacts set preseason. Inseason actions to modify quotas or fishing seasons are authorized by 50 CFR 660.409(b)(1)(i).

Consultation date and participants: Consultation on inseason action #16 occurred on August 17, 2017. Representatives from NMFS, WDFW, ODFW, and the Council participated in this consultation.

Inseason Action #17

Description of action: Inseason action #17 modified the quota in the recreational fishery in the area from Cape Falcon to Humbug Mountain. Unused coho quota from the mark-selective coho season, June 24, 2017 through July 31, 2017, was transferred, on an impact-neutral basis, to the non-mark-selective coho fishery, scheduled for September 2, 2017 through September 30, 2017. The adjusted quota for the non-mark-selective coho fishery is 7,900 coho.

Effective dates: Inseason action #17 took effect August 28, 2017 and remains in effect through the end of the 2017 salmon fishing season.

Reason and authorization for the action: This action was taken consistent with the annual management measures (82 FR 19630, April 28, 2017) which provided that any remainder of the mark-selective quota may be transferred on an impact-neutral basis to the September non-mark-selective quota from Cape Falcon to Humbug Mountain. The STT calculated that the quota transfer would add 1,900 coho to the 6,000 non-mark-selective coho quota set preseason, for an adjusted quota of 7,900 coho. The RA considered the landings from the mark-selective fishery and the STT's calculations and determined that this inseason action was necessary to meet the management objectives set preseason. Inseason action to modify quotas and/or fishing seasons is authorized by 50 CFR 660.409(b)(1)(i).

Consultation date and participants: Consultation on inseason action #17 occurred on August 28, 2017. Representatives from NMFS, ODFW, and CDFW participated in this consultation. Council staff were unavailable to participate but were notified of the RA's decision immediately after the consultation.

Inseason Action #18

Description of action: Inseason action #18 closed the non-mark-selective coho recreational salmon fishery from Cape Falcon, OR, to Humbug Mountain, OR, at 11:59 p.m., September 7, 2017, due to projected attainment of the non-mark-selective coho quota.

Effective dates: Inseason action #18 took effect September 7, 2017, and remains in effect through the end of the 2017 salmon fishing season.

Reason and authorization for the action: The purpose of this action was to prevent exceeding the quota for the non-mark-selective coho fishery. The RA considered coho landings to date, and determined that this inseason action was necessary to meet the management objectives for fishery impacts set preseason. Inseason actions to modify quotas or fishing seasons are authorized by 50 CFR 660.409(b)(1)(i).

Consultation date and participants: Consultation on inseason action #18 occurred on September 6, 2017. Representatives from NMFS, ODFW, and CDFW participated in this consultation. Council staff were unavailable to participate but were notified of the RA's decision immediately after the consultation.

All other restrictions and regulations remain in effect as announced for the 2017 ocean salmon fisheries and 2018 salmon fisheries opening prior to May 1, 2018 (82 FR 19631, April 28, 2017) and as modified by prior inseason actions.

The RA determined that the best available information indicated that Chinook and coho salmon abundance forecasts, Chinook and coho salmon landings, and expected fishery effort supported the above inseason actions recommended by the states of Washington and Oregon. The states manage the fisheries in state waters adjacent to the areas of the U.S. exclusive economic zone in accordance with these federal actions. As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (82 FR 19631, April 28, 2017), the Pacific Coast Salmon Fishery Management Plan (FMP), and regulations implementing the FMP, 50 CFR 660.409 and 660.411. Prior notice and opportunity for public comment was impracticable because NMFS and the state agencies had insufficient time to provide for prior notice and the opportunity for public comment between the time Chinook and coho salmon catch and effort projections were developed and fisheries impacts were calculated, and the time the fishery modifications had to be implemented in order to ensure that fisheries are managed based on the best available scientific information, ensuring that conservation objectives and Endangered Species Act consultation standards are not exceeded. The AA also finds good cause to waive the 30-day delay in effectiveness required under 5 U.S.C. 553(d)(3), as a delay in effectiveness of these actions would allow fishing at levels inconsistent with the goals of the FMP and the current management measures.

These actions are authorized by 50 CFR 660.409 and 660.411 and are exempt from review under Executive Order 12866.

Authority: 16 U.S.C. 1801 et seq.

Dated: October 31, 2017.
Emily H. Menashes,
Acting Director, Office of Sustainable Fisheries, National Marine Fisheries Service.

[FR Doc. 2017-24019 Filed 11-2-17; 8:45 am]

BILLING CODE 3510-22-P